DEPARTMENT OF ENERGY

Federal Energy Regulatory Commission

[Docket No. EL15-38-000]

RTO Energy Trading, LLC; Notice of Petition for Declaratory Order

Take notice that on January 26, 2015, pursuant to Rule 207 of the Federal Energy Regulatory Commission's (Commission) Rules of Practice and Procedure, 18 CFR 385.207 (2014), RTO Energy Trading, LLC (RET), filed a petition for declaratory order requesting the Commission confirm that: (1) Absent indicia of common control, overlap in capital ownership, even if significant, is insufficient to render two entities “affiliates,” or otherwise require or allow them to be jointly subject to PJM Interconnection, LLC.'s (PJM) Tariff and/or Operating Agreement; and (2) RET is not deemed be an affiliate, an affiliated entity, or otherwise related to, or affiliated with, any other Commission-regulated market participant; and, thus, should not be, for any purpose, jointly subject to PJM's Tariff and/or Operating Agreement with any other Commission-regulated market participant, as long as RET follows certain safeguards, as more fully explained in the petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern time on February 25, 2015.

Dated: January 27, 2015.
Kimberly D. Bose,
Secretary.

[FR Doc. 2015-01995 Filed 2-2-15; 8:45 am]

BILLING CODE 6717-01-P